DEPARTMENT OF COMMERCE

National Oceanic and Atmospheric Administration

RIN 0648-XR35

Endangered Species; File No. 1556

AGENCY: National Marine Fisheries Service (NMFS), National Oceanic and Atmospheric Administration (NOAA), Commerce.

ACTION: Notice; receipt of application for modification.

SUMMARY: Notice is hereby given that Commonwealth of the Northern Mariana Islands, USA (CNMI), Division of Fish and Wildlife, [Sylvan Igisomar, responsible official] P.O. Box 10007, Saipan, Mariana Islands, 96950, has requested a modification to scientific research Permit No.1556-01.

DATES: Written, telefaxed, or e-mail comments must be received on or before October 2, 2009.

ADDRESSES: The modification request and related documents are available for review by selecting “Records Open for Public Comment” from the Features box on the Applications and Permits for Protected Species (APPS) home page, https://apps.nmfs.noaa.gov/, and then selecting File No. 1556-02 from the list of available applications. These documents are also available upon written request or by appointment in the following office(s):

Permits, Conservation and Education Division, Office of Protected Resources, NMFS, 1315 East-West Highway, Room 13705, Silver Spring, MD 20910; phone (301) 713-2289; fax (301) 713-0376; and

Pacific Islands Region, NMFS, 1601 Kapiolani Blvd., Rm 1110, Honolulu, HI 96814-4700; phone (808)944-2200; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1556-02.

FOR FURTHER INFORMATION CONTACT: Kate Swails or Patrick Opay, (301)713-2289.

SUPPLEMENTARY INFORMATION: The subject modification to Permit No. 1556, issued on May 24, 2006 (71 FR 31164) is requested under the authority of the Endangered Species Act of 1973, as amended (16 U.S.C. 1531 et seq.) and the regulations governing the taking, importing, and exporting of endangered and threatened species (50 CFR 222-226).

Permit No. 1556 authorizes the permit holder to perform sea turtle surveys in the waters of the Northern Mariana Islands, USA. The project consists of shoreline/cliff line assessments, in-water tow dive assessments, and the hand capture of sea turtles. Turtles are handled, measured, photographed, carapace painted, tissue-sampled, flipper tagged, passive integrated transponder tagged, and released. A subset of the turtles are satellite tagged. The applicant captures up to 100 green and 40 hawksbill sea turtles annually. The permit is issued for five years.

The permit holder requests authorization to change their field season from April-October to year round and add shell etching and oral examination to their list of procedures.

Dated: August 27, 2009.
P. Michael Payne,
Chief, Permits, Conservation and Education Division, Office of Protected Resources, National Marine Fisheries Service.

[FR Doc. E9-21182 Filed 9-1-09; 8:45 am]

BILLING CODE 3510-22-S